DEPARTMENT OF HOUSING AND URBAN DEVELOPMENT

[Docket No. FR-4630-FA-07]

Announcement of Funding Awards; Fair Housing Initiatives Program; Fiscal Year 2001

AGENCY: Office of the Assistant Secretary for Fair Housing and Equal Opportunity, HUD.

ACTION: Announcement of funding awards.

SUMMARY: In accordance with section 102(a)(4)(C) of the Department of Housing and Urban Development Reform Act of 1989, this document notifies the public of the fiscal year 2001 funding awards made under the Fair Housing Initiatives Program (FHIP). The purpose of this document is to announce the names and addresses of the award winners and the amount of the awards to be used to strengthen the Department's enforcement of the Fair Housing Act and to further fair housing.

FOR FURTHER INFORMATION CONTACT: Myron Newry, Director, FHIP Support Division, Office of Programs, 451 Seventh Street, SW., Room 5230, Washington, DC 20410. Telephone number (202) 708-2215 (this is not a toll-free number). A telecommunications device (TTY) for hearing and speech impaired persons is available at (800) 877-8339 (this is a toll-free number).

SUPPLEMENTARY INFORMATION: Title VIII of the Civil Rights Act of 1968, as amended, 42 U.S.C. 3601-19 (the Fair Housing Act) charges the Secretary of Housing and Urban Development with responsibility to accept and investigate complaints alleging discrimination based on race, color, religion, sex, handicap, familial status or national origin in the sale, rental, or financing of most housing. In addition, the Fair Housing Act directs the Secretary to coordinate with state and local agencies administering fair housing laws and to cooperate with and render technical assistance to public or private entities carrying out programs to prevent and eliminate discriminatory housing practices.

Section 561 of the Housing and Community Development Act of 1987, 42 U.S.C. 3616, established the FHIP to strengthen the Department's enforcement of the Fair Housing Act and to further fair housing. This program assists projects and activities designed to enhance compliance with the Fair Housing Act and substantially equivalent state and local fair housing laws. Implementing regulations are found at 24 CFR part 125.

The FHIP has three active funding categories: The Education and Outreach Initiative (EOI), the Private Enforcement Initiative (PEI), and the Fair Housing Organizations Initiative (FHOI). This Notice announces awards made, primarily, under EOI, PEI and FHOI, as well as award(s) under National Programs and other special funding categories.

The Department announced in the Federal Register on February 26, 2001 (66 FR 11638 and 66 FR 11793), the availability of approximately $16,500,000, out of an appropriation of $24,000,000, and any potential recapture, to be utilized for the FHIP for projects and activities through PEI, EOI, FHOI with the remaining approximately $7,500,000 designated to the National Housing Discrimination Audit 2001. Additionally, on July 25, 2001 (66 FR 38846) the availability of approximately $1,000,000 for a 24-month period was announced under a separate Notice of Funding Availability (NOFA) under the EOI—National Program—Model Codes Partnership Component (MCPC). Although the MCPC was first published in the Federal Register on February 24, 2000, no timely applications were received.

This Notice announces the award of approximately $16,336,127 million of FY 2001 grant funding to 94 organizations that submitted applications under the February 26, 2001 SuperNOFA and the award of six contracts to four organizations for approximately $5,498,754.10 for the National Housing Discrimination Study and other purposes. This Notice further announces the award of approximately $1,874,519.00 of FY 2000 funding to 2 organizations, which included an award to 1 organization under the July 25, 2001, NOFA. Finally, this notice announces the award of approximately $1,999,712 in FY 2001 funding to two National EOI programs plus another $72,000 for partial funding of one FHOI/ENOC program for applications submitted under the March 26, 2002 SuperNOFA.

The Department reviewed, evaluated and scored the applications received based on the criteria in the February 26, 2001 SuperNOFA and the July 25, 2001 NOFA. As a result, HUD has funded the applications announced in Appendix A, and in accordance with section 102(a)(4)(C) of the Department of Housing and Urban Development Reform Act of 1989 (103 Stat. 1987, 42 U.S.C. 3545), the Department is hereby publishing details concerning the recipients of funding awards in Appendix A of this document.

The Catalog of Federal Domestic Assistance Number for currently funded Initiatives under the Fair Housing Initiatives Program is 14.408.

Dated: August 10, 2006.
Bryan Greene,
Deputy Assistant Secretary for Enforcement and Programs.

Appendix A—FY 2001 Fair Housing Initiatives Program Awards
Applicant name | Contact person | Region | Award amount
Education and Outreach Initiative/General Component
City of Cambridge Human Rights Commission, 51 Inman Street, 2nd Floor, Cambridge, MA 02139 | Quo Tran, 617-349-4396 | 1 | $95,987.00
City of Boston Fair Housing, One City Hall Plaza, Room 966, Boston, MA 02201 | Victoria Williams, 817-635-2525 | 1 | 93,133.00
Westchester Residential Opportunities, 470 Mamaroneck Avenue, Suite 410, White Plains, NY 10605 | Toni Downes, 914-428-4507 x306 | 2 | 99,965.00
Neighborhood Economic Development, Avocacy Project, 299 Broadway, Suite 706, New York, NY 10007 | Sarah Ludwig, 212-393-9595 | 2 | 100,000.00
Citizen Action of New Jersey, 400 Main Street, Hackensack, NJ 07601 | Phyllis Salowe-Keye, 201-488-2804 | 2 | 100,000.00
Housing Council in the Monroe County Area, Inc., 183 East Main Street, Suite 1100, Rochester, NY 14604 | Anne Peterson, 716-546-3700 x3008 | 2 | 98,560.00
Fair Housing Council of Central New York, Inc., 327 W. Fayette Street, Suite 408, Syracuse, NY 13202 | Merrilee Witherell, 315-471-0420 | 2 | 96,602.00
Asian Americans for Elderly Comm. Development Fund, 111 Division Street, New York, NY 10002 | Sui Kwan Chan, 212-964-2288 | 2 | 100,000.00
City of New York, Department of Housing Preservation, 100 Gold Street, New York, NY 10038 | Jerilyn Perine, 212-863-6100 | 2 | 95,632.00
Delaware Comm Reinvestment Action Council, Inc., 601 North Church Street, Wilmington, DE 19301 | Rashmi Rangan, 302-654-5024 | 3 | 75,000.00
Prince William County, Virginia, 8033 Ashton Avenue, Suite 105, Manassas, VA 20109 | Joseph Botta, 703-792-4799 | 3 | 13,500.00
Delaware Housing Coalition, P.O. Box 1633, Dover, DE 19903 | Ken Smith, 302-678-2286 | 3 | 50,625.00
Tenant Support Services, Inc., 642 North Broad Street, Philadelphia, PA 19130 | Asia Coney, 215-684-1016 | 3 | 100,000.00
D.C. Department of Housing and Community Development, 801 North Capitol Street, NE., Washington, DC 20002 | Milton Bailey, 202-442-7210 | 3 | 100,000.00
United Neighborhood Centers of Lackawana County, Inc., 410 Olive Street, Scranton, PA 18509 | Michael Henley, 570-346—759 | 3 | 53,137.00
City of Memphis, 701 North Main Street, Memphis, TN 38107 | W.W. Herenton, 901-357-6008 | 4 | 100,000.00
Broward County Commission, 201 South Andrews Avenue, 2nd Floor, Fort Lauderdale, FL 33301 | Roger Desjarlis, 954-357-7350 | 4 | 100,000.00
Kentucky Commission on Human Rights, 323 W. Broadway, Louisville, KY 40202 | Beverly Watts, 502-595-4024 | 4 | 99,833.00
The Fair Housing Agency of Alabama, Inc., 1111 Beltine Highway, Suite 109, Mobile, AL 36606 | Enrique Lang, 334-471-9333 | 4 | 97,956.00
South Mississippi Legal Services, Inc., P.O. Box 1386, Biloxi, MS 39533 | Stanley Taylor, 228-374-4160 | 4 | 100,000.00
Albany State University, 419 West Oglethorpe Blvd., Albany, GA 31701 | Everett Cordy, 229-430-1367 | 4 | 100,000.00
Metropolitan Development and Housing Agency, 701 South Sixth Street, Nashville, TN 37206 | Gerald Nicely, 615-780-7085 | 4 | 89,790.00
City of Flint Human Relations, 1101 South Saginaw Street, Flint, MI 48502 | Woodrow Stanley, 810-766-7346 | 5 | 100,000.00
Homeownership Network Services, 550 East Spring Street, Columbus, OH 43236 | Mona Simons, 614-287-3978 | 5 | 99,871.00
Carver County Housing and Redevelopment Agency, 705 Walnut Street, Chaska, MN 55318 | Julie Frick, 952-448-7715 | 5 | 10,000.00
Toledo Fair Housing Center, 2116 Madison Ave., Toledo, OH 43624 | Lisa Rice, 419-243-6163 | 5 | 100,000.00
SER/Jobs for Progress, Inc., 117 North Genesee Street, Wawketan, IL 60085 | Dawn Erickson, 847-336-3247 | 5 | 96,928.00
Coalition on Homelessness and Housing in Ohio, 35 East Gay Street, Suite 210, Columbus, OH 43215 | Bill Faith, 614-280-1984 | 5 | 100,000.00
ACORN Housing Corporation, 757 Raymond Avenue, St. Paul, MN 55114 | George Butts, 651-203-0008 | 5 | 100,000.00
Wayne State University, 656 W. Kirby Rm. 4002, Detroit, MI 48202 | Karen Watkins-Hollwell, 313-577-2294 | 5 | 100,000.00
United Migrant Opportunity Services, Inc., 929 W. Mitchell Street, Milwaukee, WI 53204 | Lupe Martinez, 414-389-6000 | 5 | 100,000.00
St. Clair County, 19 Public Square, Suite 200, Belleville, IL 62220 | Thelma Chalmers, 618-277-6790 | 5 | 85,071.00
Columbus Urban League, 788 Mount Vernon Avenue, Columbus, OH 42302 | Samuel Gresham, 614-257-6300 | 5 | 100,000.00
Arkansas Community Housing Corporation, 2101 South Main Street, Little Rock, AR 72206 | Gloria Smith, 501-661-0514 | 6 | 100,000.00
Desire Community Housing Corp., 2709 Piety Street, New Orleans, LA 70126 | Wilbert Thomas, 504-945-6731 | 6 | 100,000.00
Ft. Worth Human Relations Commission, 1000 Throckmorton, Fort Worth, TX 76102 | Vanessa Boiling, 817-871-7534 | 6 | 99,362.00
City of Santa Fe, P.O. Box 909, Santa Fe, NM 87504 | Larry Delgado, 505-955-6562 | 6 | 98,895.00
Gulf Coast Community Services Association, 5000 Gulf Freeway, Bldg. #1, Houston, TX 77023 | Fran Holcomb, 713-393-4700 | 6 | 100,000.00
Crawford-Sebastian Community Development Council, 4831 Armour Street, Fort Smith, AR 72914 | Weldon Ramey, 501-785-2303 | 6 | 10,766.00
City of Garland, P.O. Box 46902, Garland, TX 75046-9002 | Jim Slaughter, 972-205-3313 | 6 | 100,000.00
Urban League of Wichita, Inc., P.O. Box 46902, Witchita, KS 67214 | Otis Milton, 316-262-2463 | 7 | 100,000.00
Iowa Civil Rights Commision, 211 East Maple, 2nd Floor, Des Moines, IA 50309 | Corlis Moody, 515-281-8084 | 7 | 95,563.00
Southeast Missouri Regional Community Development Corporation, Route D, River Road, Lilbourn, MO 63862 | Darvin Green, 373-688-2480 | 7 | 100,000.00
Colorado Coalition for the Homeless, 2111 Champa, Denver, CO 80205 | John Parvensky, 303-293-2217 | 8 | 100,000.00
Legal Services of Northern California, 517 12th Street, Sacramento, CA 95814 | Gary Smith, 916-447-4700 | 9 | 100,000.00
EDUCATION AND OUTREACH INITIATIVE/DISABILITY COMPONENT
Tennessee Fair Housing Council, 719 Thompson Lane, Suite 200, Nashville, TN 37204 | Tracey McCartney, 615-383-6155 | 4 | 99,179.00
Kentucky Fair Housing Council, Inc., 835 W. Jefferson St., Suite 100, Louisville, KY 40202 | Galen Martin, 502-583-3247 | 4 | 95,956.00
Access Living of Metropolitan Chicago, 614 West Roosevelt Road, Chicago, IL 60607 | Rosa Villarreal, 312-253-7000 | 5 | 100,000.00
Protection and Advocacy System, 1720 Louisiana Blvd., NE Suite 204, Albuquerque, NM 87110 | James Jackson, 505-256-3100 | 6 | 99,250.00
Living Independently in NW Kansas, 2401 E 13th, Hays, KS 67601 | Brian Atwell, 785-625-6942 | 7 | 99,465.00
NAPA County Rental Information & Mediation Service, 1714 Jefferson Street, Napa, CA 94559 | Jean Barstow, 707-253-2700 | 9 | 10,000.00
Silver State Fair Housing Council (formerly Truckee Meadows), P.O. Box 3935, Reno, NV 89505-3935 | Katherine Copeland, 775-324-0990 | 9 | 100,000.00
Idaho Legal Aid Services, Inc., 310 N 5th Street, Boise, ID 83702 | Ernesto Sanchez, 208-336-8980x105 | 10 | 100,000.00
Arc of Cowiltz Valley, 1410 8th Avenue, Room 15, Longview, WA 98632 | Frank Schubert, 360-425-5494 | 10 | 35,625.00
Fair Housing Organizations Initiative
National Fair Housing Alliance, 1212 New York Ave., #525, Washington, DC 20005 | Shanna Smith, 202-898-1661 | 3 | 1,049,999.00
Housing Opportunities for Project Excellence, Inc., 18441 NW 2nd Ave., Suite 218, Miami, FL 33169 | William Thompson, 305-651-4673 | 4 | 1,050,000.00
West Tennessee Legal Services, Inc., 210 W. Main Street, Jackson, TN 38302 | J. Steven Xanthopulos, 731-423-0616 | 4 | 1,050,000.00
Fair Housing Contact Service, 333 S. Main Street, Suite 300, Akron, OH 44308 | Lynn Clark, 330-376-4331 | 5 | 204,981.00
Fair Housing Resource Center of Washtenaw County, P.O. Box 7825, Ann Arbor, MI 48107 | Pamela Kisch, 734-994-3426 | 5 | 449,814.000
Private Enforcemnt Initiative
Housing Discrimination Project, Inc., 57 Suffolk Street, Holyoke MA 01040 | Erin Kemple, 413-539-9796 | 1 | 250,000.00
Connecticut Fair Housing Center, 221 Main Street, Suite 204, Hartford, CT 06106 | Nancy Downing, 860-247-4400 | 1 | 200,028.00
Brooklyn Legal Services Group, 105 Court Street, Brooklyn, NY 11201 | John Gray, 718-237-5524 | 2 | 250,000.00
Long Island Housing Services, Inc., 3900 Veteran's Memorial Highway, Suite 2, Bohemia, NY 11716 | Michelle Santantonio, 631-467-5111 | 2 | 240,000.00
Open Housing Center, Inc., 45 John Street, Suite 308, New York, NY 10038 | Karen Webber, 212-231-7080 ext. 14 | 2 | 250,000.00
Fair Housing Council of Northern New Jersey, 131 Main Street, Hackensack, NJ 07601 | Lee Porter, 201-489-3552 | 2 | 250,000.00
Tenant's Action Group of Philadelphia (TAG), 21 S. 12th Street, 12th Floor, Philadelphia, PA 19107 | John Rowel, 215-575-0707 | 3 | 250,000.00
Fair Housing Partnership of Greater Pittsburgh, Inc., 7 Wood Street, Suite #602, Pittsburgh, PA 15222 | Robert Pitts, 412-391-2535 | 3 | 250,000.00
Baltimore Neighborhoods, Inc., 2217 St. Paul Street, Baltimore, MD 21218 | Joseph Coffey, 410-243-4458 | 3 | 139,850.00
Housing Opportunities of Northern Delaware, 100 W 10th Street, Suite 1004, Wilmington, DE 19801 | Gladys Spikes, 302-429-0794 | 3 | 63,500.00
Fair Housing Council of Suburban Philadelphia, Inc., 225 S. Chester Rd. Suite 1, Swarthmore, PA 19081 | James Berry, 610-604-4411 | 3 | 159,870.00
National Community Reinvestment Coalition, 733 15th Street, NW, Suite 540, Washington, DC 20005 | John Taylor, 202-628-8866 | 3 | 250,000.00
Jacksonville Area Legal Aid, Inc., 126 W. Adams Street, Jacksonville, FL 32202 | Michael Figgins, 904-356-8371 | 4 | 248,719.00
Memphis Area Legal Services, Inc., 109 North Main Street, Jackson TN 38302 | Harrison Mclver, 901-426-4311 | 4 | 250,000.00
Metro Fair Housing Services, Inc., P.O. Box 91125, Atlanta, GA 30364-1125 | Foster Corbin, 404-765-3985 | 4 | 200,115.00
West Tennessee Legal Services, Inc., 210 W. Main Street, Jackson, TN 38302 | J. Steven Xanthopoulos, 901-426-4131 | 4 | 250,000.00
Fair Housing Center of Greater Palm Beaches, Inc., 1300 W. Lantana Rd. Ste, 200, Lantana, FL 33462 | Vince Larkins, 561-533-8717 | 4 | 200,000.00
Legal Aid Society of Minneapolis, 430 First Avenue North, Suite 300, Minneapolis, MN 55401 | Jeremy Lane, 612-334-5785 | 5 | 250,000.00
Fair Housing Center of Metropolitan Detroit, 1249 Washington Blvd., Room 1312, Detroit, MI 48226 | Clifford Schrupp, 313-963-1274 | 5 | 249,683.00
Fair Housing Resources Center, Inc., 54 South State Street, Painesville, OH 44077 | Patricia Kidd, 440-392-0147 | 5 | 185,199.00
Hope Fair Housing Center, 2100 Manchester Rd., Suite 1070, Bldg. 8, Wheaton, IL 60187 | Bernard Klein, 630-690-6500 | 5 | 250,000.00
Metropolitan Milwaukee Fair Housing Council, 600 East Mason Street, Suite 401, Milwaukee, WI 53202 | William Tisdale, 414-278-1240 | 5 | 250,000.00
Leadership Council of Metropolitan Chicago, 111 West Jackson Blvd., 12th Floor, Chicago, IL 60604 | Aurie Pennick, 312-341-5678 | 5 | 250,000.00
Cuyahoga Plan of Ohio, Inc., 812 Huron Road, Suite 620, Cleveland, OH 44115 | Michael Roche, 216-621-4525 | 5 | 249,992.00
Chicago Lawyer's Committee for Civil Rights Under Law, 100 N LaSalle Street, Ste. 600, Chicago, IL 60602 | Clyde Murphy, 312-630-9744 | 5 | 235,944.00
Austin Tenants Council, 1619 E. Cesar Chavez Street, Austin, TX 78702 | Katherine Stark, 512-474-7007 | 6 | 183,066.00
Greater Houston Fair Housing Center, 2900 Woodridge, #303, Houston, TX 77087 | Daniel Busamante, 713-641-3247 | 6 | 248,824.00
Metropolitan St. Louis Equal Housing Opportunity Council, 1027 S. Vandeventer Ave., 4th Floor, St. Louis, MO 63110 | Bronwen Zwimer, 314-534-5800 | 7 | 249,990.00
Regional Executive Council on Civil Rights, P.O. Box 736, Salina, KS 67402-0736 | Kaye Crawford, 785-309-5745 | 7 | 94,019.00
Kansas City Fair Housing Center, 3033 Prospect, Kansas City, MO 64128 | Ruth Shechter, 816-923-3247 | 7 | 226,854.00
Metro Denver Fair Housing Center, 2855 Trangont Pl., Suite 205, Denver, CO 80205 | Donna Hilton, 303-296-6949 | 8 | 235,114.00
Southern Arizona Fair Housing Center, 2030 E. Broadway Blvd., Suite 101, Tucson, AZ 85719 | Richard Rhey, 520-798-1568 | 8 | 249,800.00
Orange County Fair Housing Council, 201 S. Broadway, Santa Ana, CA 92701 | D. Elizabeth Pierson, 714-569-0823 | 9 | 125,115.00
Bay Area Legal Aid, 405 14th Street, 9th Floor, Oakland, CA 94612 | Ramon Arias, 510-663-4755 | 9 | 250,000.00
Fair Housing of Marin, 615 B Street, San Rafael, CA 94901 | Steve Saxe, 415-461-4080 | 9 | 250,000.00
Secretary Initiated Projects/Contracts
Housing Discrimination Study (HDS)—Contracts
Housing Discrimination Study/The Urban Institute, 2100 M Street, N.W., Washington, DC | Margery Turner, 435-797-1529 | 3 | 999,333.00
Housing Discrimination Study/The Urban Institute, 2100 M Street, N.W., Washington, DC | Margery Turner, 435-797-1529 | 3 | 250,423.00
Housing Discrimination Study/The Urban Institute, 2100 M Street, N.W., Washington, DC | Margery Turner, 435-797-1529 | 3 | 1,592,813.00
National Fair Housing Alliance, 1212 New York Ave., NW #525, Washington, DC 20005 | Shanna Smith, 202-898-1661 | 3 | 649,309.00
Progressive Management Resources, Inc., 1580 Wilshere Blvd., Suite 2020, Los Angles, CA 90010 | Heidi Jane Olguin | 3 | 322,810.00
Project for Training and Technical Assistance Guidance—(1 Contract)
KPMG Consulting, 1676 International Dr., McClean, VA 22102-4828 | Wendy F. Carr, 703-747-4230 | 3 | 1,684,066.00
FY 2001 Fair Housing Initiatives Program Awards Out of FY 2000 Funding
Education and Outreach Initiative National-Model Codes Partnership Component
International Code Council, 5203 Leesburg Pike, Suite 600, Falls Church, VA 22041 | Richard Kuchnicki, (202) 466-3434 | 3 | 891,443.00
Secretary Initiated Project for Training and Technical Assistance Guidance
KPMG Consulting, 1676 International Dr., McClean VA, 22102-4828 | Wendy F. Carr, 703-747-4230 | 3 | 983,076.00
FY 2002 Fair Housing Initiatives Program Award Out of FY 2001 Funding
Fair Housing Organizations Initiative
National Fair Housing Alliance, 1212 New York Ave., NW #525, Washington, DC 20005 | Shanna Smith, 202-898-1661 | 3 | 72,000.00
National Education and Outreach Initiative-Media Campaign Component
Leadership Conference Education Fund, 1629 K Street, Suite 1010, Washington, DC 20006 | Karen Lawson, (202) 466-3434 | 3 | 1,000,000.00
National Education and Outreach Initiative—Fair Housing Awareness Component
National Fair Housing Alliance, 1212 New York Ave., NW #525, Washington, DC 20005 | Shanna Smith, 202-898-1661 | 3 | 999,712.00

[FR Doc. E6-14663 Filed 9-5-06; 8:45 am]

BILLING CODE 4210-27-P